DEPARTMENT OF LABOR

Occupational Safety and Health Administration

29 CFR Part 1910

RIN 1218-AC41

Combustible Dust

AGENCY: Occupational Safety and Health Administration (OSHA), Labor.

ACTION: Notice of combustible dust Web Chat.

SUMMARY: OSHA invites interested parties to participate in a Web Chat on the workplace hazards of combustible dust. OSHA plans to use the information gathered in response to this Web Chat in developing a proposed standard for combustible dust.

DATES: The Web Chat will be held on June 28, 2010, at 1 p.m. EDT.

ADDRESSES:

Registration

Participants are requested to provide their name, affiliation, and e-mail address so OSHA can respond to comments or seek clarification.

Web Site

Participants can access the Web Chat at http://www.dol.gov/dol/chat.htm. The Web Blog will remain accessible for additional feedback through July 7, 2010.

FOR FURTHER INFORMATION CONTACT: Information regarding this notice is available from the following sources:

• Press inquiries. Contact Jennifer Ashley, Director, OSHA Office of Communications, Room N-3647, U.S. Department of Labor, 200 Constitution Avenue, NW., Washington, DC 20210; telephone: (202) 693-1999.

• General and technical information regarding Combustible Dust. Contact Mat Chibbaro, P.E., Fire Protection Engineer, Office of Safety Systems, OSHA Directorate of Standards and Guidance, Room N-3609, U.S. Department of Labor, 200 Constitution Avenue, NW., Washington, DC 20210; telephone: (202) 693-2255.

• Technical information regarding Web Chat logistics and electronic access. Contact Andy Bailey, DOL Web Content Manager, Office of Public Affairs, Division of Enterprise Communications, U.S. Department of Labor, 200 Constitution Avenue, NW., Washington, DC 20210; telephone: (202) 693-5946.

• Copies of this Federal Register notice. Electronic copies are available at http://www.regulations.gov. This Federal Register notice, as well as news releases and other relevant information, also are available on the OSHA Web page at http://www.osha.gov.

SUPPLEMENTARY INFORMATION:

I. Background

The hazards of combustible dust encompass a wide array of materials, industries, and processes. Any combustible material can burn rapidly when in a finely divided form. Materials that may form combustible dust include, but are not limited to, wood, coal, plastics, biosolids, candy, sugar, spice, starch, flour, feed, grain, fertilizer, tobacco, paper, soap, rubber, drugs, dried blood, dyes, certain textiles, and metals (such as aluminum and magnesium). Industries that may have combustible dust hazards include, among others: animal food manufacturing, grain handling, food manufacturing, wood product manufacturing, chemical manufacturing, textile manufacturing, furniture manufacturing, metal processing, fabricated metal products and machinery manufacturing, pesticide manufacturing, pharmaceutical manufacturing, tire manufacturing, production of rubber and plastics, plastics and rubber products manufacturing, recycling, wastewater treatment, and coal handling.

OSHA is developing a standard that will comprehensively address the fire and explosion hazards of combustible dust. The Agency issued an Advanced Notice of Proposed Rulemaking (ANPR) that requested comments, including data and other information, on issues related to the hazards of combustible dust in the workplace. (74 FR 54334, Oct. 21, 2009). OSHA plans to use the information received in response to the ANPR, at the stakeholder meetings, and during the Web Chat in developing a proposed standard for combustible dust.

II. Web Chat and Stakeholder Meetings

OSHA conducted stakeholder meetings in Washington, DC, on December 14, 2009; in Atlanta, GA, on February 17, 2010; and in Chicago, IL, on April 21, 2010. This notice announces a Web Chat to gather additional information beyond that provided in the stakeholder meetings. OSHA will pose questions and interact with participants for one hour, beginning at 1 p.m. EDT on June 28, 2010. In addition to the live Web Chat, OSHA will also post additional information on the Department of Labor Blog, http://www.dol.gov/dol/chat.htm. and invites the public to provide feedback via comments on these entries. The Web Blog will remain accessible through July 7, 2010. OSHA will monitor the site, provide additional information, and pose additional questions when appropriate.

OSHA will introduce areas to which participants should focus their views, concerns, and issues related to the hazards of combustible dust. The Web Chat will center on major issues such as:

• Scope.

• Balance between performance and specification based requirements.

• Economic impacts.

• Definitions.

III. Public Participation

To register, follow the instructions provided on the Web site. Participants are asked to provide the following information so that OSHA can solicit clarification of comments, if necessary:

• Name.

• E-mail address.

• Organization being represented.

• Stakeholder category: government, industry, standards-developing organization, research or testing agency, union, trade association, insurance, fire protection equipment manufacturer, consultant, or other (if other, please specify).

• Industry sector (if applicable): metals, wood products, grain or wet corn milling, food (including sugar), pharmaceutical or chemical manufacturing, paper products, rubber or plastics, coal, or other (if other, please specify).

Authority and Signature

This document was prepared under the direction of David Michaels, PhD, MPH, Assistant Secretary of Labor for Occupational Safety and Health, U.S. Department of Labor, pursuant to sections 4, 6, and 8 of the Occupational Safety and Health Act of 1970 (29 U.S.C. 653, 655, 657), 29 CFR part 1911, and Secretary's Order 5-2007 (72 FR 31160).

Signed at Washington, DC, on June 1, 2010.
David Michaels,
Assistant Secretary of Labor for Occupational Safety and Health.

[FR Doc. 2010-13467 Filed 6-4-10; 8:45 am]

BILLING CODE 4510-26-P